DEPARTMENT OF STATE

[Public Notice: 9835]

In the Matter of the Amendment of the Designation of Lashkar-e-Tayyiba (and Other Aliases) as a Foreign Terrorist Organization Pursuant to Section 219 of the Immigration and Nationality Act

Based upon a review of the administrative record assembled in this matter pursuant to Section 219 of the Immigration and Nationality Act, as amended (8 U.S.C. 1189 (“INA”), and in consultation with the Attorney General and the Secretary of the Treasury, I have concluded that there is a sufficient factual basis to find that Lashkar-e-Tayyiba uses the additional aliases Al-Muhammadia Students, AMS, and Al-Muhammadia Students Pakistan. Therefore, pursuant to Section 219(b) of the INA, as amended (8 U.S.C. 1189(b)), I hereby amend the designation of Lashkar-e-Tayyiba as a Foreign Terrorist Organization to include Al-Muhammadia Students, AMS, and Al-Muhammadia Students Pakistan as aliases.

This determination shall be published in the Federal Register.

Dated: November 28, 2016.
John F. Kerry,
Secretary of State.

[FR Doc. 2016-31730 Filed 12-28-16; 11:15 am]

BILLING CODE 4710-AD-P